ENVIRONMENTAL PROTECTION AGENCY

[CERCLA-04-2017-3750; FRL-9955-46-Region 4]

Crowders Mountain Site, Kings Mountain, Gaston County, North Carolina; Notice of Settlement

AGENCY: Environmental Protection Agency.

ACTION: Notice of settlement.

SUMMARY: Under 122(h) of the Comprehensive Environmental Response, Compensation and Liability Act (CERCLA), the United States Environmental Protection Agency has entered into a settlement with North Carolina Department of Natural and Cultural Resources, concerning the Crowders Mountain Superfund Site located in Kings Mountain, Gaston County, North Carolina. The settlement addresses recovery of CERCLA costs for a cleanup action performed by the EPA at the Site.

DATES: The Agency will consider public comments on the settlement until December 21, 2016. The Agency will consider all comments received and may modify or withdraw its consent to the proposed settlement if comments received disclose facts or considerations which indicate that the proposed settlement is inappropriate, improper, or inadequate.

ADDRESSES: Copies of the settlement are available from the Agency by contacting Ms. Paula V. Painter, Program Analyst, using the contact information provided in this notice. Comments may also be submitted by referencing the Site's name through one of the following methods:

Internet: https://www.epa.gov/aboutepa/about-epa-region-4-southeast#r4-public-notices.

• U.S. Mail: U.S. Environmental Protection Agency, Superfund Division, Attn: Paula V. Painter, 61 Forsyth Street SW., Atlanta, Georgia 30303.

• Email: Painter.Paula@epa.gov.

FOR FURTHER INFORMATION CONTACT: Paula V. Painter at 404/562-8887.

Dated: October 26, 2016.
Greg Armstrong,
Acting Chief, Enforcement and Community Engagement Branch, Superfund Division.

[FR Doc. 2016-27979 Filed 11-18-16; 8:45 am]

BILLING CODE 6560-50-P